OFFICE OF PERSONNEL MANAGEMENT

Privacy Act of 1974: New System of Records

AGENCY: U.S. Office of Personnel Management (OPM).

ACTION: Notice of a new system of records.

SUMMARY: OPM proposes to add a new system of records to its inventory of records systems subject to the Privacy Act of 1974 (5 U.S.C. 552a), as amended. This action is necessary to meet the requirements of the Privacy Act to publish in the Federal Register notice of the existence and character of records maintained by the agency (5 U.S.C. 552a(e)(4)).

DATES: The new system will be effective without further notice on August 14, 2006, unless we receive comments that result in a contrary determination.

ADDRESSES: Send written comments to the Office of Personnel Management, ATTN: Nelldean Monroe, OPM Voting Rights Administrator, P.O. Box 25167, Denver, CO 80225-0167.

FOR FURTHER INFORMATION CONTACT: Nelldean Monroe, 303-236-8031.

SUPPLEMENTARY INFORMATION: The Web-Enabled Voting Rights System (WEVRS) will allow OPM the ability to fulfill its mandate under the Voting Rights Act of 1965, as amended, to maintain a list of Federally registered voters (“the List”) by county, city, and precinct. Specified OPM personnel will use WEVRS to update the List when they receive notification and documentation from a jurisdiction about a change in a voter's name, address, or eligibility status. The system will also afford the Department of Justice read-only access to the List for monitoring purposes as required by the Voting Rights Act. Furthermore, it will allow jurisdictions limited read-only access so that they can identify and report changes to OPM about a voter's name, address, or eligibility status.

U.S. Office of Personnel Management.
Linda M. Springer,
Director.

OPM INTERNAL-17

System Name:

Web-Enabled Voting Rights System (WEVRS).

System Location:

The IT infrastructure of WEVRS is housed at Office of Personnel Management (OPM), 1900 E Street NW., Washington, DC 20415. Related original paperwork is housed at the Voting Rights Section, OPM, Room B1503, Building 20, Denver Federal Center, Denver, CO 80225.

Categories of Individuals Covered by the System:

This system contains records on certain citizens who were listed to vote by the Federal Government in order to ensure access to registration. The system currently contains information on approximately 112,000 Federally registered voters who live in certain counties and parishes (hereafter referred to as “covered jurisdictions”) in five states: Alabama, Georgia, Louisiana, Mississippi, and South Carolina.

Categories of Records in the System:

The records in the database may contain the following on an individual voter:

a. Name.

b. Address, including state, county, and precinct.

c. Birth date.

d. Number and date of the Federal certificate (i.e., voting registration card).

e. The line number where the voter's name appears on original paper versions of the list of Federally registered voters (“the List”).

The same information may also appear on the paper certificates and in the original List.

Authority for Maintenance of the System:

The Voting Rights Act of 1965 (42 U.S.C. 1973), as amended, gives OPM the authority for maintenance of the system.

Purpose:

In accordance with the Voting Rights Act of 1965, as amended, OPM maintains the List, keeping it as up-to-date as possible. If designated by Federal examiners, OPM can add voters to the List. If the appropriate jurisdictions provide proof to OPM that Federally listed voters have lost their eligibility to vote under state law, OPM will remove those voters' names from the List. Voters can become ineligible to vote under state laws for reasons such as death, loss of U.S. citizenship, conviction of a felony, legal declaration of insanity or incompetence, or change in residence outside of the certified county/parish where Federally registered. Also, when appropriate jurisdictions provide the specified documentation, OPM makes name, address, and precinct changes to the List as necessary.

Routine Uses of Records Maintained in the System, Including Categories of Users and the Purposes of Such Uses:

Information in these records may be used:

1. For maintaining the List.

2. For the National Archives and Records Administration—To disclose information to the National Archives and Records Administration for use in records management inspections.

3. For litigation—To disclose information to the Department of Justice (DOJ), or in a proceeding before a court, adjudicative body or other administrative body before which OPM is authorized to appear, when: OPM, or any component thereof; or any employee of OPM in his or her official capacity; or any employee of OPM in his or her individual capacity where DOJ or OPM has agreed to represent the employee; or the United States, when OPM determines that litigation is likely to affect OPM or any of its components; is a party to litigation or has an interest in such litigation, and the use of such records by DOJ or OPM is deemed by OPM to be arguably relevant and necessary to the litigation provided; however, that the disclosure is compatible with the purpose for which records were collected.

4. For Certain Disclosures to DOJ—To disclose relevant and necessary information to designated officers and employees of DOJ for:

(a) Providing information to covered jurisdictions upon their request.

(b) Reminding covered jurisdictions of the presence of Federally registered voters within their bounds.

(c) Comparing voters on the List to those on county/parish voter registration lists.

5. For Certain Disclosures to States and Covered Jurisdictions—To reference information on the List when they make requests for changes or removals from it, and to ensure the accuracy of the voter registration lists.

Policies and Practices of Storing, Retrieving, Safeguarding, Retaining, and Disposing of Records in the System:

Storage:

WEVRS maintains these records in an electronic database. OPM maintains the original List in press-board binders by date and jurisdiction in filing cabinets. It also maintains originals, or copies of originals, of Federal certificates (i.e., voter registration cards) in card files.

Retrievability:

Records in WEVRS may be retrieved by the name, address, state, county/parish, or precinct of the individual about whom they are maintained.

Safeguards:

OPM has adopted appropriate administrative, technical, and physical controls in accordance with its Automated Information Systems Security Program to protect information in the WEVRS database. OPM stores the List and certificates in locked, metal file cabinets in a secured room. OPM restricts access to all of these records to employees who have the appropriate clearance and need-to-know.

Retention and Disposal:

OPM maintains these records in accordance with OPM's Records Retention Schedule, Section 3.LEG.01.

System Manager and Address:

Associate Director, Human Resources Products and Services Division, Office of Personnel Management, Room 4310, 1900 E Street NW., Washington, DC 20415-4000.

Notification and Record Access Procedure:

Individuals wishing to determine whether this system of records contains information about them may do so by writing to FOI/P, OPM, ATTN: Mary Beth Smith-Toomey, Office of the Chief Information Officer, 1900 E Street NW., Room 5415, Washington, DC 20415-7900. Individuals must furnish the following information for their records to be located:

1. Full name.

2. Date and place of birth.

3. Social Security Number.

4. Signature.

5. Available information regarding the type of information requested.

6. The reason why the individual believes this system contains information about him/her.

7. The address to which the information should be sent.

Individuals requesting access must also comply with OPM's Privacy Act regulations regarding verification of identity and access to records (5 CFR part 297).

Contesting Record Procedure:

Individuals wishing to request amendment of records about them should write to Nelldean Monroe, OPM Voting Rights Administrator, P.O. Box 25167, Denver, CO 80225-0167 and furnish the following information for their records to be located:

1. Full name.

2. Date and place of birth.

3. Social Security Number.

4. Signature.

5. Precise identification of the information to be amended.

Individuals requesting amendment must also follow OPM's Privacy Act regulations regarding verification of identity and amendment to records (5 CFR part 297).

Record Source Categories:

Information in this system of records is obtained from:

1. The individual to whom the information applies.

2. Election commissioners and registrars of voters of covered jurisdictions.

System Exemptions:

None.

[FR Doc. E6-10369 Filed 7-3-06; 8:45 am]

BILLING CODE 6325-38-P